DEPARTMENT OF ENERGY

Federal Energy Regulatory Commission

[Docket No. CP14-493-000]

Southern Natural Gas Company, LLC; Notice of Application for Certificate of Public Convenience and Necessity

Take notice that on May 30, 2014 Southern Natural Gas Company, LLC (Southern), 569 Brookwood Village, Suite 749, Birmingham, Alabama 35209, filed in the above referenced docket an application pursuant to section 7(c) and 7(b) of the Natural Gas Act (NGA) and Parts 157 and 284 of the Commission's regulations, requesting a certificate of public convenience and necessity authorizing their Zone 3 Expansion Project. This project that creates an additional 235 million cubic feet per day (MMcf/d) of firm transportation capacity on the Southern is pipeline system. Southern also requested authorization for incremental rate treatment for the Zone 3 Expansion Project, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Glenn A. Sheffield, Director, Rates & Regulatory Affairs, Southern Natural Gas Company, LLC, 569 Brookwood Village, Suite 749, Birmingham, Alabama 35209, phone (205) 325-3813 or email glenn_sheffield@kindermorgan.com.

Specifically, Southern will be (1) constructing a 3.3 mile long, 36-inch outer-diameter pipeline loop in Marengo County, Alabama; (2) installing compressor unit 4,000 Horsepower (Hp) at an existing compressor station in Upson County, Georgia; (3) abandoning a compressor unit 4,700 International Standard Organization (ISO) Hp from operation at an existing compressor station in St. Bernard Parish, Louisiana and relocating it to an existing compressor station in Liberty County, Georgia; (4) installing relocated compressor unit 4,700 ISO Hp and installing gas cooling at an existing compressor station in Liberty County, Georgia; (5) installing new gas cooling at an existing compressor station in Glynn County, Georgia; (6) constructing a new compressor station, one unit of 4,700 ISO Hp and a main line valve in Nassau County, Florida; (7) installing miscellaneous upgrades at an existing meter station in Wayne County, Georgia; (8) and installing up to three pipeline taps and Supervisory Control and Data Acquisition system interconnection along the existing Southern Cypress line in Nassau and/or Duval Counties, Florida.

Southern states that the Zone 3 Expansion Project will provide Southern's customers with access to additional supplies of domestically-produced natural gas entering Southern's system through its interconnections with Elba Express Company, LLC. Southern states that the project is supported by signed precedent agreements for firm transportation service with ten new and existing customers for all the capacity created by the Zone 3 Expansion Project. Southern requests that the Commission issue the requested authorizations on or before May 15, 2015, in order to allow Southern sufficient time to meet the June 1, 2016 in-service date set forth in the precedent agreements. Southern states that the Zone 3 Expansion Project will result in no subsidization from existing shippers, and is seeking incremental rate treatment for the project. The cost of the project is $93,468,931.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: July 7, 2014.

Dated: June 13, 2014.
Kimberly D. Bose,
Secretary.

[FR Doc. 2014-14372 Filed 6-19-14; 8:45 am]

BILLING CODE 6717-01-P